DEPARTMENT OF TRANSPORTATION

Federal Aviation Administration

14 CFR Part 39

[Docket No. FAA-2012-0772; Directorate Identifier 2007-SW-053-AD; Amendment 39-17393; AD 2013-05-21]

RIN 2120-AA64

Airworthiness Directives; Eurocopter France Helicopters

AGENCY: Federal Aviation Administration (FAA), DOT.

ACTION: Final rule.

SUMMARY: We are adopting a new airworthiness directive (AD) for Eurocopter France (Eurocopter) Model EC130 B4 helicopters with a cabin vibration damper installed. This AD requires installing a vibration damper casing assembly on both sides of the helicopter. This AD was prompted by a crack and failure of a cabin vibration damper blade. The actions of this AD are intended to modify the cabin vibration damper assembly to prevent contact with the flight controls in the event of a cabin vibration blade failure, jamming of a flight control, and subsequent loss of control of the helicopter.

DATES: This AD is effective April 30, 2013.

The Director of the Federal Register approved the incorporation by reference of a certain document listed in this AD as of April 30, 2013.

ADDRESSES: For service information identified in this AD, contact American Eurocopter Corporation, 2701 N. Forum Drive, Grand Prairie, Texas 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Discussion

On July 26, 2012, at 77 FR 43738, the Federal Register published our notice of proposed rulemaking (NPRM), which proposed to amend 14 CFR part 39 to include an AD that would apply to Eurocopter Model EC130 B4 helicopters with a cabin vibration damper installed, except those modified in accordance with Modification 073565. That NPRM proposed to require installing a vibration damper casing assembly on both sides of the helicopter. The proposed requirements were intended to prevent contact with the flight controls in the event of a cabin vibration blade failure, jamming of a flight control, and subsequent loss of control of the helicopter.

The European Aviation Safety Agency (EASA), which is the Technical Agent for the Member States of the European Union, issued EASA AD No. 2006-0278, dated September 7, 2006 (AD 2006-0278), to correct an unsafe condition for the Eurocopter Model EC130 B4 helicopter. EASA advises of a cracked cabin vibration damper blade, which could lead to jamming of a flight control.

Comments

We gave the public the opportunity to participate in developing this AD, but we did not receive any comments on the NPRM (77 FR 43738, July 26, 2012).

FAA's Determination

This helicopter has been approved by the aviation authority of France and is approved for operation in the United States. Pursuant to our bilateral agreement with France, EASA, its technical representative, has notified us of the unsafe condition described in the EASA AD. We are issuing this AD because we evaluated all information provided by EASA and determined the unsafe condition exists and is likely to exist or develop on other helicopters of this same type design and that air safety and the public interest require adopting the AD requirements as proposed.

Differences Between This AD and the EASA AD

The EASA AD requires two daily visual inspections for cracks in the blade of each cabin vibration damper and replacement of a blade if there is a crack; this AD does not. The EASA AD requires compliance by a calendar date. This AD requires compliance within 100 hours time-in-service.

Related Service Information

Eurocopter has issued Alert Service Bulletin (ASB) No. 53A008, Revision 0, dated July 19, 2006 (ASB 53A008), which supersedes ASB No. 05A002, Revision 0, dated July 18, 2006, and specifies installing a cabin vibration damper containment device. EASA classified ASB 53A008 as mandatory and issued AD 2006-0278 to ensure the continued airworthiness of these helicopters.

Costs of Compliance

We estimate that this AD will affect 122 helicopters of U.S. Registry.

We estimate that operators may incur the following costs in order to comply with this AD.

• $340 for 4 work-hours to install a vibration damper casing assembly at an average labor rate of $85 per work-hour,

• $1,500 for required parts per helicopter, and

• $224,480 total cost for the fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-05-21 Eurocopter France: Amendment 39-17393; Docket No. FAA-2012-0772; Directorate Identifier 2007-SW-053-AD.

(a) Applicability

This AD applies to Model EC130 B4 helicopters with a cabin vibration damper installed, except those modified in accordance with Modification 073565, certificated in any category.

(b) Unsafe Condition

This AD defines the unsafe condition as a cracked cabin vibration damper blade. This condition could result in failure of the blade, jamming of the flight controls, and subsequent loss of control of the helicopter.

(c) Effective Date

This AD becomes effective April 30, 2013.

(d) Compliance

You are responsible for performing each action required by this AD within the specified compliance time unless it has already been accomplished prior to that time.

(e) Required Actions

Within the next 100 hours time-in-service:

(1) For helicopters that have not been modified in accordance with Modification 073521 or Modification 073525, install a vibration damper casing assembly on both sides of the helicopter by following paragraphs 2.B.2.a and 2.B.5 of the Accomplishment Instructions of Eurocopter Alert Service Bulletin No. 53A008, dated July 19, 2006 (ASB 53A008).

(2) For helicopters that have been modified in accordance with Modification 073521 either at the time of manufacture or pursuant to Eurocopter Service Bulletin (SB) No. 53-006, Revision 1, dated September 30, 2004; or Modification 073525 either at the time of manufacture or pursuant to Eurocopter SB No. 53-007, Revision 1, dated February 19, 2007, install a vibration damper casing assembly on both sides of the helicopter by following paragraphs 2.B.3.a, 2.B.3.b, and 2.B.5 of the Accomplishment Instructions of ASB 53A008.

(f) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Eurocopter SB No. 53-006, Revision 1, dated September 30, 2004; SB No. 53-007, Revision 1, dated February 19, 2007; and Alert SB No. 05A002, Revision 0, dated July 18, 2006, which are not incorporated by reference, contain additional information about the subject of this AD. For service information identified in this AD, contact American Eurocopter Corporation, 2701 N. Forum Drive, Grand Prairie, Texas 75052; telephone (972) 641-0000 or (800) 232-0323; fax (972) 641-3775; or at http://www.eurocopter.com/techpub. You may review a copy of the service information at the FAA, Office of the Regional Counsel, Southwest Region, 2601 Meacham Blvd., Room 663, Fort Worth, Texas 76137.

(2) The subject of this AD is addressed in European Aviation Safety Agency AD No. 2006-0278, dated September 7, 2006.

(h) Subject

Joint Aircraft Service Component (JASC) Code: 1810, Helicopter Vibration Analysis.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin No. 53A008, dated July 19, 2006.

(ii) Reserved.

(3) For Eurocopter service information identified in this AD, contact American Eurocopter Corporation, 2701 N. Forum Drive, Grand Prairie, Texas 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on March 7, 2013.
Lance T. Gant,
Acting Directorate Manager, Rotorcraft Directorate, Aircraft Certification Service.

[FR Doc. 2013-06133 Filed 3-25-13; 8:45 am]

BILLING CODE 4910-13-P